DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Program Evaluation for Assertive Adolescent & Family Treatment (AAFT) Program—NEW

The Substance Abuse and Mental Health Services Administration's (SAMHSA), Center for Substance Abuse Services (CSAT) has implemented the Assertive Adolescent and Family Treatment (AAFT) program to promote the adoption of evidence-based practices by community providers in the area of adolescent substance use treatment. The AAFT program provides evidence-based substance use services to adolescents and their families, as well as to transition-age youth (TAY), caregivers, and their families/mentors. This program is based on evidence that families/caregivers and other appropriate adults are an integral part of the treatment process and their inclusion in services increases the likelihood of successful treatment and reintegration of adolescents/TAYs into their communities following treatment. AAFT requires grantees to implement the Adolescent Community Reinforcement Approach (A-CRA) coupled with Assertive Continuing Care (ACC) to provide treatment that is context-specific, family-centered, and community-based. Grantees are also required to use the Global Appraisal of Individual Needs (GAIN) as the common assessment instrument across programs to improve intake assessment, clinical interpretation, monitoring, and data management. The GAIN is used for diagnosis and to assist in placement, treatment planning, local evaluation, and continuous quality improvement for programs. In supporting AAFT and to ensure that each implementation activity required by AAFT is implemented well and as faithfully as possible by grantees, CSAT has provided, through Chestnut Health Systems, a well-thought-out package of implementation supports, including manual-assisted training in and certification for clinical staff on A-CRA and ACC, training/certification in GAIN, monitoring/coaching/mentoring/support for clinicians and supervisors, implementation calls and monthly progress reports, and topical workgroups that share ideas and resources among grantees. The overarching objective of the multi-site, Assertive Adolescent and Family Treatment (AAFT) process and outcome evaluation is to assess and document the process of implementation in the 2009 cohort of AAFT grantees and to explore the role that implementation supports play in how well these programs evolve.

CSAT is requesting approval from the Office of Management and Budget (OMB) to implement a data collection document, the Annual Program Survey, to gather longitudinal data (end of each of 3 project years) from a range of grantee personnel to evaluate the implementation, expansion, and sustainability of adolescent substance use services developed under the AAFT program.

The current proposal requests implementing the Annual Program Survey to collect information in the following areas:

a. Attitudes toward evidence-based practices generally, and AAFT model components in particular (e.g., attitudes toward using a treatment manual, achieving certification);

b. Grantee involvement with the implementation supports provided by Chestnut Health Systems and their reactions to those implementation supports;

c. Perceived changes in clinical practice/behavior indicating movement toward full A-CRA/ACC implementation;

d. Perceived barriers encountered in implementation and compensatory strategies;

e. Report on project progress, including activities related to the AAFT program, changes to program plans, project accomplishments, and efforts to plan for sustainability of the program.

This information would be collected annually—in October/November of each project year. The survey has three versions tailored to address the respondents' roles in the grant (Principal Investigator/Program Director, Clinical Supervisor/Clinician, and Evaluator/Data Manager). Staffing patterns at each grantee site vary greatly; therefore, CSAT is only able to estimate the total number of respondents for each category based on initial grantee proposals. CSAT expects to conduct surveys with approximately 21 administrators, 56 clinical staff, and 28 evaluators/data managers. The total number of respondents—105 individuals—represent project staff at three distinct levels across 14 grantee sites.

The burden estimate for completing the Annual Program Survey is as follows:

Annual Reporting Burden—Summary Table
Data collection activity | Number of respondents ¹ | Responses per respondent ² | Total responses | Average hours per response | Total hour burden | Wage rate (hourly) | Total hour cost ($)
CY 2010-12 Annual Reporting Burden
AAFT Implementation Survey—Principal Investigator/Program Director | 21 | 1 | 21 | 0.75 | 15.75 | 50 | 787.50
AAFT Implementation Survey—Clinical Supervisor/Clinician | 56 | 1 | 56 | 0.75 | 42 | 26 | 1,092.00
AAFT Implementation Survey—Evaluator/Data Manager | 28 | 1 | 28 | 0.75 | 21 | 15 | 315.00
Annual Total | 105 |  | 105 |  | 78.75 |  | 2,194.50
¹ Represents project staff at three distinct levels—administrators, clinical staff, evaluators—across 14 grantee sites. Number of respondents is an average of respondents per role based on staffing patterns described in grantee proposals.
² The AAFT Implementation Survey will be completed once by respondents at all 14 sites at the end of each project year.

Written comments and recommendations concerning the proposed information collection should be sent by February 9, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: January 3, 2011.
Elaine Parry,
Director, Office of Management, Technology and Operations.

[FR Doc. 2011-209 Filed 1-7-11; 8:45 am]

BILLING CODE 4162-20-P